DEPARTMENT OF DEFENSE

Department of the Navy

Notice of Availability of Inventions for Licensing; Government-Owned Inventions

AGENCY: Department of the Navy, DOD.

ACTION: Notice.

SUMMARY: The inventions listed below are assigned to the United States Government as represented by the Secretary of the Navy and are available for domestic and foreign licensing by the Department of the Navy. U.S. Patent No. 5,889,871 entitled “Surface-Laminated Piezoelectric Film Sound Transducer” and U.S. Patent No. 6,104,816 entitled “High Noise Communication System”.

ADDRESSES: Requests for copies of the patents cited should be directed to Coastal Systems Station, Dahlgren Division, NSWC, 6703 W. HWY 98, Code CP20L, Panama City, FL 32407-7001.

FOR FURTHER INFORMATION CONTACT: Mr. Harvey A. Gilbert, Counsel, Coastal Systems Station, 6703 W. HWY 98, Code CP20L, Panama City, FL 32407-7001, telephone (850) 234-4646.

(Authority: 35 U.S.C. 207, 37 CFR Part 404)
Dated: June 22, 2001.
T.J. Welsh,
Lieutenant Commander, Judge Advocate General's Corps,U.S. Navy, Federal Register Liaison Officer.

[FR Doc. 01-16818 Filed 7-3-01; 8:45 am]

BILLING CODE 3810-FF-U